DEPARTMENT OF TRANSPORTATION

Federal Aviation Administration

14 CFR Part 39

[Docket No. FAA-2018-0722; Product Identifier 2017-SW-104-AD; Amendment 39-19651; AD 2019-11-05]

RIN 2120-AA64

Airworthiness Directives; Bell Helicopter Textron Canada Limited Helicopters

AGENCY: Federal Aviation Administration (FAA), DOT.

ACTION: Final rule.

SUMMARY: We are superseding Airworthiness Directive (AD) 2015-22-02 for certain Bell Helicopter Textron Canada Limited (Bell) Model 429 helicopters. AD 2015-22-02 required inspecting the tail rotor (TR) pitch link assemblies. This AD retains the inspections of AD 2015-22-02 and requires replacing certain pitch link bearings. This AD was prompted by a new design bearing introduced by Bell. We are issuing this AD to address the unsafe condition on these products.

DATES: This AD is effective July 12, 2019.

ADDRESSES: For service information identified in this final rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

Examining the AD Docket

You may examine the AD docket on the internet at http://www.regulations.gov by searching for and locating Docket No. FAA-2018-0722; or in person at Docket Operations between 9 a.m. and 5 p.m., Monday through Friday, except Federal holidays. The AD docket contains this final rule, the Transport Canada AD, the regulatory evaluation, any comments received, and other information. The address for Docket Operations is U.S. Department of Transportation, Docket Operations, M-30, West Building Ground Floor, Room W12-140, 1200 New Jersey Avenue SE, Washington, DC 20590.

FOR FURTHER INFORMATION CONTACT: David Hatfield, Aviation Safety Engineer, Safety Management Section, Rotorcraft Standards Branch, FAA, 10101 Hillwood Pkwy., Fort Worth, TX 76177; telephone (817) 222-5110; email david.hatfield@faa.gov.

SUPPLEMENTARY INFORMATION:

Discussion

We issued a notice of proposed rulemaking (NPRM) to amend 14 CFR part 39 to remove AD 2015-22-02, Amendment 39-18306 (80 FR 65618, October 27, 2015) (“AD 2015-22-02”) and add a new AD. AD 2015-22-02 applied to Bell Model 429 helicopters with a TR pitch link assembly part number (P/N) 429-112-101 or 429-112-103 installed.

The NPRM published in the Federal Register on August 8, 2018 (83 FR 39004). The NPRM was prompted by a new design bearing introduced by Bell. The NPRM proposed to continue to require the inspections of AD 2015-22-02. The NPRM also proposed to require replacing certain pitch link bearings. We are issuing this AD to address a worn pitch link. This condition, if not corrected, could result in pitch link failure and subsequent loss of control of the helicopter.

Transport Canada, which is the aviation authority for Canada, issued Canadian AD No. CF-2015-16R2, dated April 3, 2017 (Transport Canada AD No. CF-2015-16R2), to correct an unsafe condition for certain Bell Model 429 helicopters. Transport Canada advises that Bell has reported that the TR pitch link assembly can be rotated during the 50-hour inspections to extend the serviceability life of the bearings. Transport Canada AD No. CF-2015-16R2 requires modified inspection procedures for the spherical bearings and requires replacing the TR pitch link bearings (or the TR pitch link assembly) with spherical bearings manufactured after January 12, 2015. Transport Canada AD No. CF-2015-16R2 also requires re-identifying TR pitch link assemblies with a different part number after installing the new bearings.

Comments

We gave the public the opportunity to participate in developing this final rule, but we did not receive any comments on the NPRM.

FAA's Determination

These helicopters have been approved by the aviation authority of Canada and are approved for operation in the United States. Pursuant to our bilateral agreement with Canada, Transport Canada, its technical representative, has notified us of the unsafe condition described in the Transport Canada AD. We are proposing this AD because we evaluated all information provided by Transport Canada and determined the unsafe condition exists and is likely to exist or develop on other helicopters of the same type design and that air safety and the public interest require adopting the AD requirements as proposed except for a minor editorial change. We have updated the estimated costs to reflect that this AD affects 90 helicopters of U.S. Registry rather than 85 helicopters. This change is consistent with the intent of the proposals in the NPRM and will not increase the economic burden on any operator nor increase the scope of this AD.

Related Service Information

We reviewed Bell Alert Service Bulletin No. 429-15-16, Revision B, dated June 15, 2016. This service information contains procedures for repetitively inspecting the TR pitch link assembly until it is upgraded by replacing the TR pitch link bearings.

Differences Between This AD and the Transport Canada AD

The Transport Canada AD requires the bearing inspection within 10 hours time-in-service (TIS) or before exceeding 60 hours TIS since new, whichever occurs later. This AD requires the bearing inspection within 50 hours TIS. The Transport Canada AD also requires replacing certain bearings within 200 hours TIS after the initial bearing inspection or within 250 hours TIS since new, whichever occurs first. This AD requires replacing the bearing within 200 hours of the initial inspection or at the next 50 hours TIS inspection if the hours TIS of a pitch link assembly exceed 250 hours TIS or are unknown.

Interim Action

We consider this AD to be an interim action. If final action is later identified, we might consider further rulemaking then.

Costs of Compliance

We estimate that this AD affects 90 helicopters of U.S. Registry. We estimate that operators may incur the following costs in order to comply with this AD.

At an average labor rate of $85 per hour, inspecting the TR pitch link assemblies requires 2 work-hours for a cost of $170 per helicopter and $15,300 for the U.S. fleet per inspection cycle. Replacing both spherical bearings in each TR pitch link assembly requires 3 work-hours, and required parts cost $3,088, for a cost of $3,343 per helicopter and $300,870 for the U.S. fleet.

According to Bell's service information some of the costs of this AD may be covered under warranty, thereby reducing the cost impact on affected individuals. We do not control warranty coverage by Bell. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-22-02, Amendment 39-18306 (80 FR 65618, October 27, 2015), and adding the following new AD:

2019-11-05 Bell Helicopter Textron Canada Limited: Amendment 39-19651; Docket No. FAA-2018-0722; Product Identifier 2017-SW-104-AD.

(a) Applicability

This AD applies to Bell Helicopter Textron Canada Limited Model 429 helicopters, certificated in any category, with a pitch link assembly part number (P/N) 429-012-112-101, 429-012-112-103, 429-012-112-101FM, or 429-012-112-103FM installed.

(b) Unsafe Condition

This AD defines the unsafe condition as a worn pitch link. This condition, if not corrected, could result in pitch link failure and subsequent loss of control of the helicopter.

(c) Affected ADs

This AD replaces AD 2015-22-02, Amendment 39-18306 (80 FR 65618, October 27, 2015).

(d) Effective Date

This AD is effective July 12, 2019.

(e) Compliance

You are responsible for performing each action required by this AD within the specified compliance time unless it has already been accomplished prior to that time.

(f) Required Actions

(1) Within 50 hours time-in-service (TIS) and thereafter at intervals not to exceed 50 hours TIS:

(i) Perform a dimensional inspection of each inboard and outboard pitch link assembly for axial and radial bearing play. With a 10X or higher power magnifying glass, inspect the bearing liner for a crack, deterioration of the liner, and extrusion of the liner from the plane. If there is axial or radial play that exceeds allowable limits, or if there is a crack, deterioration of the liner, or extrusion of the liner, before further flight, replace the bearing.

(ii) Inspect the pitch link assembly sealant for pin holes and voids and to determine if the sealant thickness is 0.025 inch (0.64 mm) or less, extends over the roll staked lip by 0.030 inch (0.76 mm) or more, and is clear of the bearing ball. If there is a pin hole or void, or if the sealant exceeds 0.026 inch (0.66 mm), does not extend over the roll staked lip by 0.030 inch (0.76 mm) or more, or is not clear of the bearing ball, before further flight, replace the bearing.

(2) For pitch link assembly part number (P/N) 429-012-112-101, 429-012-112-103, 429-012-112-101FM, and 429-012-112-103FM, within 200 hours TIS following the initial inspection required by paragraph (f)(1) of this AD, or if the hours TIS of a pitch link assembly exceed 250 hours TIS or are unknown, at the next 50-hour-TIS inspection required by paragraph (f)(1) of this AD:

(i) Replace each bearing P/N 429-312-107-103 with a date of manufacture before January 13, 2015, with a bearing P/N 429-312-107-103 that was manufactured on or after January 13, 2015.

(ii) Using a white permanent fine point marker or equivalent, re-identify the pitch link assembly:

(A) Re-identify P/N 429-012-112-101 and 429-012-112-101FM as 429-012-112-111FM.

(B) Re-identify P/N 429-012-112-103 and 429-012-112-103FM as 429-012-112-113FM.

(iii) Apply a coating of DEVCON 2-TON (C-298) or equivalent over the new P/N.

(g) Special Flight Permits

Special flight permits are prohibited.

(h) Alternative Methods of Compliance (AMOCs)

(1) The Manager, Safety Management Section, Rotorcraft Standards Branch, FAA, may approve AMOCs for this AD. Send your proposal to: David Hatfield, Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

(1) Bell Alert Service Bulletin No. 429-15-16, Revision B, dated June 15, 2016, which is not incorporated by reference, contains additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 10101 Hillwood Pkwy., Room 6N-321, Fort Worth, TX 76177.

(2) The subject of this AD is addressed in Transport Canada AD No. CF-2015-16R2, dated April 3, 2017. You may view the Transport Canada AD on the internet at http://www.regulations.gov in Docket No. FAA-2018-0722.

(j) Subject

Joint Aircraft Service Component (JASC) Code: 6720 Tail Rotor Control System.

Issued in Fort Worth, Texas, on May 31, 2019.
Lance T. Gant,
Director, Compliance & Airworthiness Division, Aircraft Certification Service.

[FR Doc. 2019-11991 Filed 6-6-19; 8:45 am]

BILLING CODE 4910-13-P